GENERAL SERVICES ADMINISTRATION

[Notice—MG-2015-04; Docket No. 2015-0002; Sequence 20]

Office of Federal High-Performance Green Buildings; Development of Model Commercial Leasing Provisions

AGENCY: Office of Federal High-Performance Green Buildings, Office of Government-wide Policy, General Services Administration (GSA).

ACTION: Notice.

SUMMARY: This notice announces that GSA has developed draft model commercial leasing provisions, as required by Section 102 of the “Better Buildings Act of 2015,” and is soliciting public comment on these provisions. These provisions are intended to encourage building owners in the private sector, as well as state, county, and municipal governments, to invest in all cost-effective energy and water efficiency improvements, and to encourage tenants in these sectors to require spaces in which such measures have been implemented.

DATES: Effective: September 14, 2015.

ADDRESSES: Submit comments by September 14, 2015 via email to sustainability@gsa.gov. Please include your name and company name (if any) in the body of your email and include “Notice—MG-2015-04, Development of Model Commercial Leasing Provisions” in the subject line of your email and in any attached document.

FOR FURTHER INFORMATION CONTACT: Ms. Alexandra Kosmides, Management Analyst/Sustainability Specialist, at 202-208-4067 or email alexandra.kosmides@gsa.gov.

SUPPLEMENTARY INFORMATION: Section 102 of the “Better Buildings Act of 2015” requires GSA, in consultation with the Secretary of Energy and after providing the public with an opportunity for notice and comment, to develop and periodically publish model commercial leasing provisions and best practices and explanatory materials, to encourage building owners and tenants in the private sector to use such provisions and materials. The same section also requires GSA to make these provisions and best practices available to state, county, and municipal governments for use in managing owned and leased building space in accordance with the goal of encouraging investment in all cost-effective energy and water efficiency measures.

These provisions published for comment are based on GSA's current leasing practice. For use in the commercial sector, GSA recognizes that changes in language are desirable. The General Services Administration encourages commenters to apply their experience in negotiating leases, and the underlying intent of the clauses, to suggest improvements that will make these provisions widely applicable, and additional provisions that may address areas of sustainability not currently addressed. GSA intends to revise and publish the model provisions by Sept. 30, 2015.

The description of leasing provisions is titled “Notice—2015-MG-04; Docket No. 2015-0002; Sequence 20, Model commercial leasing provisions: August 2015 Draft for Public Comment” and is viewable and searchable on regulation.gov.

Dated: August 10, 2015.
Kevin Kampschroer,
Federal Director, Office of Federal High-Performance Green Buildings,General Services Administration.

[FR Doc. 2015-19980 Filed 8-13-15; 8:45 am]

BILLING CODE 6820-14-P